FEDERAL COMMUNICATIONS COMMISSION

47 CFR Part 73

[DA 06-262; MB Docket No. 05-142; RM-11220]

Radio Broadcasting Services; Roma, TX

AGENCY: Federal Communications Commission.

ACTION: Final rule, correction.

SUMMARY: The Federal Communications Commission published in the Federal Register, of February 23, 2006, a document which allotted Channel 278A at Roma, Texas, as that community's second local FM service. See 71 FR 9267. The document designation number was inadvertently listed in the headings section as DA 06-265. This document corrects the document designation number from DA 06-265 to DA 06-262.

DATES: Effective March 8, 2006.

FOR FURTHER INFORMATION CONTACT: Deborah Dupont, Media Bureau, (202) 418-2180.

SUPPLEMENTARY INFORMATION: The FCC published a document in the Federal Register of February 23, 2006, (71 FR 9267), allotting Channel 278A at Roma, Texas, as that community's second local FM service. In FR Doc. 06-1673, published in the Federal Register of February 23, 2006, (71 FR 9267), the document designation number was inadvertently listed as DA 06-265. This document corrects the document designation number from DA 06-265 to DA 06-262.

In rule FR Doc. 06-1673 published on February 23, 2006, (71 FR 9267) make the following correction. On page 9267, in the first column, in the headings section, the document designation number is corrected to read DA 06-262.

Federal Communications Commission.
John A. Karousos,
Assistant Chief, Audio Division, Media Bureau.

[FR Doc. 06-2087 Filed 3-7-06; 8:45 am]

BILLING CODE 6712-01-P